DEPARTMENT OF DEFENSE

Department of the Army

Notice of Prospective Grant of Exclusive Patent License

AGENCY: U.S. Army Soldier and Biological Chemical Command, DoD.

ACTION: Notice.

SUMMARY: In accordance with the provisions of 35 U.S.C. 209 (c)(1) and 37 CFR Part 404.7 (a)(1)(i), SBCCOM hereby gives notice that it is contemplating the grant of an exclusive license in the United States to practice the invention embodied in U.S. Patent Application 09/662,787, “Method and Apparatus for Counting Submicron Sized Particles”, 09/662,788, “Method and System for Detecting and Recording Submicron Sized Particles”, and U.S. Patent 6,051,189, “System and Method for Detection, Identification and Monitoring of Submicron-Sized Particles” to Virus Detection System Co, LLC, 245 C. Street, Suite 01, P.O. Box 378, Solomons, MD 20688.

This technology relates to a system and method for detection, identification, and monitoring of submicron sized particles, the method includes the steps of collecting a sample, extracting existing submicron particles from the collected sample based on density, purifying the extracted submicron particles by concentrating the extracted submicron particles based on size and, detecting and identifying the purified extracted submicron particles based on size and density thereby determining submicron particles present in the collected sample. The submicron particles detected and identified include viruses and virus-like agents such as prions. Thus, virus and virus-like agents can be detected and identified based only on their physical properties without the use of biochemical reagents or assays. A system for carrying out the method of detection and identification of these particles is also disclosed.

FOR FURTHER INFORMATION CONTACT: Mr. Jeffrey L. Hinte, Technology Transfer Office, U.S. Army SBCCOM, ATTN: AMSSB-RAS, 5183 Blackhawk Road (Bldg E3330), APG, MD 21010-5423, Phone: (410) 436-2901 or E-mail: jlhinte@sbccom.apgea.army.mil

SUPPLEMENTARY INFORMATION: The prospective exclusive license will be royalty bearing and will comply with the terms and conditions of 35 U.S.C. 209 and 37 CFR 404.7. The prospective exclusive license may be granted, unless within fifteen days from the date of this published Notice, SBCCOM receives written evidence and argument to establish that the grant of the license would not be consistent with the requirements of 35 U.S.C. 209 and 37 CFR 404.7.

Luz D. Ortiz,
Army Federal Register Liaison Officer.

[FR Doc. 01-16835 Filed 7-3-01; 8:45 am]

BILLING CODE 3710-08-M